DEPARTMENT OF COMMERCE

National Oceanic and Atmospheric Administration

Availability of Seats for the Chumash Community Channel Islands National Marine Sanctuary Advisory Council

AGENCY: National Marine Sanctuary Program (NMSP), National Ocean Service (NOS), National Oceanic and Atmospheric Administration, Department of Commerce (DOC).

ACTION: Extension of the application deadline for the Chumash Community Seat.

SUMMARY: We are extending the application deadline for the Availability of Seats for the Channel Islands National Marine Sanctuary Advisory Council. The original notice was published on September 08, 2005, (Volume 70, Number 173) [Notices] [Page 53347-53348].

DATES: Applications are due by November 18, 2005.

ADDRESSES: Application kits may be obtained from Michael Murray, Channel Islands National Marine Sanctuary, 113 Harbor Way, Suite 150, Santa Barbara, CA 93109-2315. Completed applications should be sent to the same address.

FOR FURTHER INFORMATION CONTACT: Jacklyn Kelly, Channel Islands National Marine Sanctuary, 113 Harbor Way, Suite 150, Santa Barbara, CA 93109-2315, 805-966-7107 extension 371, jacklyn.kelly@noaa.gov.

Authority: 16 U.S.C. section 1431, et seq.

(Federal Domestic Assistance Catalog Number 11.429 Marine Sanctuary Program)
Dated: October 19, 2005.
Daniel J. Basta,
Director, National Marine Sanctuary Program, National Ocean Service, National Oceanic and Atmospheric Administration.

[FR Doc. 05-21442 Filed 10-26-05; 8:45 am]

BILLING CODE 3510-NK-M